NATIONAL SCIENCE FOUNDATION

Proposal Review Panel for Physics; Notice of Meeting

In accordance with the Federal Advisory Committee Act (Pub. L. 92-463, as amended), the National Science Foundation (NSF) announces the following meeting:

Name and Committee Code: Proposal Review Panel for Division of Physics (1208), Center for the Physics of Biological Function (CBPF).

Date and Time:

December 7, 2020 10:00 a.m.-6:30 p.m.

December 8, 2020 10:00 a.m.-5:00 p.m.

December 9, 2020 10:00 a.m.-1:00 p.m.

Place: Princeton University, 1 Nassau Hall, Princeton, NJ 08544.

Type of Meeting: Part-open.

Contact Persons: James Shank, Program Director for Physics Frontier Centers, Division of Physics; National Science Foundation, 2415 Eisenhower Avenue, Room W9214, Alexandria, VA 22314; Telephone: (703) 292-4516.

Purpose of Meeting: Virtual site visit to provide an evaluation of the progress of the projects at the host site for the Division of Physics at the National Science Foundation.

Agenda

December 7, 2020; 10:00 a.m.-06:30 p.m.

10:00 a.m.-12:00 p.m.

Directors Overview & Science Talks—Session 1

12:00 p.m.-01:00 p.m.

Lunch

01:00 p.m.-03:00 p.m.

Science Talks—Session 2

03:30 p.m.-04:30 p.m.

Executive Session (CLOSED) Questions delivered to PIs

04:30 p.m.-06:30 p.m.

Poster Session

December 8, 2020; 10:00 a.m.-05:00 p.m.

10:00 a.m.-12:00 p.m.

Education/Outreach/Diversity

12:00 p.m.-01:00 p.m.

Lunch

01:00 p.m.-02:00 p.m.

Directors Conclusion and Plans for Coming Year

02:00 p.m.-03:00 p.m.

University Administrators

03:00 p.m.-04:30 p.m.

Executive Session (CLOSED)

04:30 p.m.-05:00 p.m.

Questions delivered to PIs

December 9, 2020; 10:00 a.m.-01:00 p.m.

10:00 a.m.-11:00 a.m.

Responses to Questions

11:00 a.m.-01:00 p.m.

Panel Discussion of Report

Reason for Closing: Topics to be discussed and evaluated during closed portions of the site review will include information of a proprietary or confidential nature, including technical information and information on personnel. These matters are exempt under 5 U.S.C. 552b(c), (4) and (6) of the Government in the Sunshine Act.

Dated: November 5, 2020.
Crystal Robinson,
Committee Management Officer.

[FR Doc. 2020-24949 Filed 11-9-20; 8:45 am]

BILLING CODE 7555-01-P